DEPARTMENT OF TRANSPORTATION

Federal Aviation Administration

14 CFR Part 71

[Docket No. FAA-2022-1233; Airspace Docket No. 22-AEA-14]

RIN 2120-AA66

Amendment of Class D and Class E Airspace, and Revocation of Class E Airspace; Quantico, VA

AGENCY: Federal Aviation Administration (FAA), DOT.

ACTION: Final rule.

SUMMARY: This action amends Class D airspace, removes Class E airspace designated as an extension to a Class D surface area, establishes a Class D airspace extension, and amends Class E airspace extending upward from 700 feet above the surface at Quantico MCAF (Turner Field), Quantico, VA, as an airspace evaluation determined an update is necessary. In addition, this action removes the BROOKE Very High-Frequency Omnidirectional Range Collocated Tactical Air (VORTAC) from the Class E airspace extending upward from 700 feet above the surface in the legal description, removes the extension to the south, increases the radius of the Class E airspace. This action updates the airport's geographic coordinates and replaces the terms Notice to Airmen with Notice to Air Missions and Airport/Facility Directory with Chart Supplement in the descriptions.

DATES: Effective 0901 UTC, August 10, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours a day, 365 days a year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: John Goodson, Operations Support Group, Eastern Service Center, Federal Aviation Administration, 1701 Columbia Avenue, College Park, GA 30337; Telephone: (404) 305-5966.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends Class D and E airspace and revokes Class E airspace descriptions in Quantico, VA, to support IFR operations in the area.

History

The FAA published a notice of proposed rulemaking for Docket No. FAA 2022-1233 in the Federal Register (88 FR 12870; March 1, 2023), amending Class D and Class E airspace, and revoking Class E airspace at Quantico MCAF (Turner Field), Quantico, VA. Interested parties were invited to participate in this rulemaking effort by submitting written comments on the proposal to the FAA. No comments were received.

Incorporation by Reference

Class D and Class E airspace designations are published in Paragraphs 5000, 6004, and 6005, respectively, of FAA Order JO 7400.11, incorporated by reference in 14 CFR 71.1 annually. This document proposes to amend the current version of that order, FAA Order JO 7400.11G, dated August 19, 2022, and effective September 15, 2022. These updates would subsequently be published in the next update to FAA Order JO 7400.11. FAA Order JO 7400.11G is publicly available as listed in the ADDRESSES section of this document.

FAA Order JO 7400.11G lists Class A, B, C, D, and E airspace areas, air traffic service routes, and reporting points.

The Rule

This action amends 14 CFR part 71 by amending Class D airspace for Quantico MCAF (Turner Field), Quantico, VA. The Class D airspace is amended by establishing an extension of airspace extending from the 4-mile radius of the airfield and within a 5.4-mile radius of the airfield extending clockwise from the 168° bearing to the 209° bearing from the airfield. The geographical coordinates of the airfield will be updated to coincide with the FAA's database. In addition, this action replaces the terms Notice to Airmen with Notice to Air Missions and Airport/Facility Directory with Chart Supplement in the legal description.

Also, this action removes Class E airspace designated as an extension to a Class D surface area for Quantico MCAF (Turner Field), Quantico, VA, as the extensions are now included in the Class D legal description.

The Class E airspace extending upward from 700 feet above the surface is amended by increasing the radius to 7.7-miles (previously 6.3-miles), removing the extension to the south, and removing the BROOKE VORTAC from the Class E airspace header and Class E airspace legal description, as it is unnecessary in describing the airspace. Also, the geographical coordinates of the airfield are updated to coincide with the FAA's database. Controlled airspace is necessary for the safety and management of instrument flight rules (IFR) operations in the area.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a.

This airspace action is not expected to cause any potentially significant environmental impacts, and no extraordinary circumstances warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

AEA VA D Quantico, VA [Amended]

Quantico MCAF (Turner Field), VA

(Lat. 38°30′13″ N, long. 77°18′18″ W)

That airspace extending upward from the surface to and including 2,500 feet MSL within a 4-mile radius of Quantico MCAF (Turner Field) and a 5.4-mile radius of the airfield extending clockwise from the 168° bearing to the 209° bearing from the airfield. This Class D airspace area is effective during the specific dates and times established in advance by a Notice to Air Missions. The effective date and time will thereafter be continuously published in the Chart Supplement.

Paragraph 6004 Class E Airspace Designated as an Extension to Class D or E Surface Area.

* * * * *

AEA VA E4 Quantico, VA [Removed]

Paragraph 6005 Class E Airspace Areas Extending Upward From 700 Feet or More Above the Surface of the Earth.

* * * * *

AEA VA E5 Quantico, VA [Amended]

Quantico MCAF (Turner Field), VA

(Lat. 38°30′13″ N, long. 77°18′18″ W)

That airspace extending upward from 700 feet above the surface within a 7.7-mile radius of Quantico MCAF (Turner Field).

Issued in College Park, Georgia, on May 4, 2023.
Lisa E. Burrows,
Manager, Airspace & Procedures Team North, Eastern Service Center, Air Traffic Organization.

[FR Doc. 2023-09877 Filed 5-10-23; 8:45 am]

BILLING CODE 4910-13-P